DEPARTMENT OF JUSTICE

Immigration and Naturalization Service

8 CFR Parts 214 and 264

[INS No. 2216-02; AG Order No. 2589-2002]

RIN 1115-AG70

Registration and Monitoring of Certain Nonimmigrants

Correction

Federal Register document 02-15037 was inadvertently published in the Rules and Regulations section of the issue of Thursday, June 13, 2002 beginning on pages 40581-40586. It should have appeared in the Proposed Rules section.

[FR Doc. C2-15037 Filed 6-13-02; 8:45 am]

BILLING CODE 1505-01-D

DEPARTMENT OF TRANSPORTATION

Federal Aviation Administration

14 CFR Part 71

[Airspace Docket No. 01-AGL-17]

Modification of Class E Airspace; Athens, OH

Correction

In rule document 02-13214 beginning on page 36807 in the issue of Tuesday, May 28, 2002 make the following corrections:

1. On page 36807, in the second column, under the heading, SUPPLEMENTARY INFORMATION: in the 13th line, “200” should read “2001”.

2. On the same page, in the third column, under “Comments Invited”, in the third paragraph, in the seventh line,“91-AGL-17” should read “01-AGL-17”.

[FR Doc. C2-13214 Filed 6-13-02; 8:45 am]

BILLING CODE 1505-01-D